DEPARTMENT OF HOMELAND SECURITY

[Docket No. USCBP-2011-0024]

Advisory Committee on Commercial Operations of Customs and Border Protection (COAC)

AGENCY: U.S. Customs and Border Protection, Department of Homeland Security (DHS).

ACTION: Committee management; notice of Federal Advisory Committee meeting.

SUMMARY: The Advisory Committee on Commercial Operations of Customs and Border Protection (COAC) will meet on August 18, 2011, in Long Beach, CA. The meeting will be open to the public. As an alternative to on-site attendance, U.S. Customs and Border Protection will also offer a live webcast of the COAC meeting via the Internet.

DATES: COAC will meet on Thursday, August 18, 2011, from 1 p.m. to 5:30 p.m. Please note that the meeting may close early if the committee has completed its business.

Registration: If you plan on attending via webcast, please register online at https://apps.cbp.gov/te_registration/?w=55 by close-of-business on August 12, 2011. Please feel free to share this information with interested members of your organizations or associations. If you plan on attending on-site, please register either online at https://apps.cbp.gov/te_registration/?w=48 or by e-mail to tradeevents@dhs.gov by close-of-business on August 12, 2011.

ADDRESSES: The meeting will be held at the Westin Long Beach Hotel, in the Centennial Ballroom, Salon A, 333 East Ocean Boulevard, Long Beach, CA 90802. All visitors report to the Foyer of the Salon A.

For information on facilities or services for individuals with disabilities or to request special assistance at the meeting, contact Ms. Wanda Tate as soon as possible.

To facilitate public participation, we are inviting public comment on the issues to be considered by the committee as listed in the “Agenda” section below.

Comments must be submitted in writing no later than August 12, 2011 and must be identified by USCBP-2011-0024 and may be submitted by one of the following methods:

• Federal eRulemaking Portal: http://www.regulations.gov. Follow the instructions for submitting comments.

• E-mail: Tradeevents@dhs.gov. Include the docket number in the subject line of the message.

• Fax: 202-325-4290.

• Mail: Ms. Wanda Tate, Office of Trade Relations, U.S. Customs and Border Protection, 1300 Pennsylvania Avenue, NW., Room 5.2A, Washington, DC 20229.

Instructions: All submissions received must include the words “Department of Homeland Security” and the docket number for this action. Comments received will be posted without alteration at http://www.regulations.gov, including any personal information provided.

Docket: For access to the docket to read background documents or comments received by the COAC, go to http://www.regulations.gov.

There will be two public comment periods held during the meeting on August 18, 2011. On-site speakers are requested to limit their comments to 3 minutes. Contact the individual listed below to register as a speaker. Please note that the public comment period for on-site speakers may end before the time indicated on the schedule that is posted on the CBP Web page at the time of the meeting. Comments can also be made electronically anytime during the COAC meeting webcast, but please note that webcast participants will not be able to provide oral comments. Comments submitted electronically will be read into the record at some time during the meeting.

FOR FURTHER INFORMATION CONTACT: Ms. Wanda Tate, Office of Trade Relations, U.S. Customs and Border Protection, Department of Homeland Security, 1300 Pennsylvania Avenue, NW., Room 5.2A, Washington, DC 20229; telephone 202-344-1440; facsimile 202-325-4290.

SUPPLEMENTARY INFORMATION: Notice of this meeting is given under the Federal Advisory Committee Act, 5 U.S.C. App. (Pub. L. 92-463). The COAC provides advice to the Secretary of Homeland Security, the Secretary of the Treasury, and the Commissioner of U.S. Customs and Border Protection (CBP) on matters pertaining to the commercial operations of CBP and related functions within DHS or the Department of the Treasury.

Agenda

The COAC will meet to review, discuss next steps and formulate recommendations on the following two issues:

• Review and Discuss Managing by Account: Center of Excellence and Expertise (CEE) and Account Executive Pilot Programs.

• Review and Discuss Role of the Broker, A Broker Revision Project.

Prior to the COAC taking action on either of these two issues, members of the public will have an opportunity to provide comments orally or, for comments submitted electronically during the meeting, by reading the comments into the record.

The COAC will receive an update on the following Customs and Border Protection Initiatives and Subcommittee issues:

• Update on Automated Commercial Environment (ACE): What's new? What's planned?

• Update on the Work of the Enhancing Air Cargo Security Subcommittee.

• Update on the Work of Land Border Security Initiatives Subcommittee.

• Update on the Work of the One U.S. Government at the Border—Interagency Issues Subcommittee.

• Update on the Work of the Antidumping and Countervailing Duties (AD/CVD) Enhancements Subcommittee.

• Update on the Work of the Enhancing Intellectual Property Rights Enforcement Efforts Subcommittee.

Dated: July 28, 2011.
Maria Luisa O'Connell,
Senior Advisor for Trade and Public Engagement, Office of Trade Relations.

[FR Doc. 2011-19560 Filed 8-1-11; 8:45 am]

BILLING CODE 9111-14-P